DEPARTMENT OF ENERGY

Federal Energy Regulatory Commission

[Docket Nos. ER02-2001-019; ER13-392-000, ER11-4531-000; ER12-2514-000]

Electric Quarterly Reports; M&R Energy Resources Corp.; Reliable Power, LLC; Susterra Energy, LLC; Notice of Revocation of Market-Based Rate Tariff

On August 21, 2015, the Commission issued an order announcing its intent to revoke the market-based rate authority of the public utilities listed in the caption of that order, which had failed to file their required Electric Quarterly Reports.¹ The Commission directed those public utilities to file the required Electric Quarterly Reports within 15 days of the date of issuance of the order or face revocation of their authority to sell power at market-based rates and termination of their electric market-based rate tariffs.²

¹ Electric Quarterly Reports, 152 FERC ¶ 61,141 (2015) (August 21 Order).

² Id. at Ordering Paragraph A.

The time period for compliance with the August 21 Order has elapsed. The above-captioned companies failed to file their delinquent Electric Quarterly Reports. The Commission hereby revokes the market-based rate authority and terminates the electric market-based rate tariff of each of the companies who are named in the caption of this order.

Dated: September 22, 2015
Nathaniel J. Davis, Sr.,
Deputy Secretary.

[FR Doc. 2015-24534 Filed 9-25-15; 8:45 am]

BILLING CODE 6717-01-P